DEPARTMENT OF COMMERCE

International Trade Administration

[A-570-992]

Monosodium Glutamate From the People's Republic of China: Preliminary Results of the Antidumping Duty Administrative Review; 2017-2018

AGENCY: Enforcement and Compliance, International Trade Administration, Department of Commerce.

SUMMARY: The Department of Commerce (Commerce) preliminarily finds that the 28 companies subject to this administrative review are part of the China-wide entity because none filed a separate rate application (SRA) and/or a separate rate certification (SRC). The period of review (POR) is November 1, 2017 through October 31, 2018. Interested parties are invited to comment on these preliminary results.

DATES: Applicable August 30, 2019.

FOR FURTHER INFORMATION CONTACT: Leo Ayala, AD/CVD Operations, Office VII, Enforcement and Compliance, International Trade Administration, U.S. Department of Commerce, 1401 Constitution Avenue NW, Washington, DC 20230; telephone: (202) 482-3945.

SUPPLEMENTARY INFORMATION:

Background

On November 1, 2018, Commerce published a notice of opportunity to request an administrative review of the antidumping duty order on monosodium glutamate (MSG) from the People's Republic of China (China).¹ In response, on November 30, 2018, Ajinomoto North America, Inc. (the petitioner) requested a review of 28 companies.² Commerce initiated a review of all 28 companies on February 6, 2019.³ For a list of these companies, see the appendix to this notice. The deadline for interested parties to submit an SRA or an SRC was March 7, 2019.⁴ No party submitted an SRA or an SRC.⁵

¹ See Antidumping or Countervailing Duty Order, Finding, or Suspended Investigation; Opportunity to Request Administrative Review, 83 FR 39420 (November 1, 2018) (Order).

² See Ajinomoto's Letter, “Monosodium Glutamate from China: Request for Administrative Review,” dated November 30, 2018, at Attachment A (listing 28 companies for which Ajinomoto sought a review).

³ See Initiation of Antidumping and Countervailing Duty Administrative Reviews, 84 FR 2159 (February 6, 2019) (Initiation Notice).

⁴ See Initiation Notice.

⁵ Id. at 2160 (“Separate Rate Certifications are due to Commerce no later than 30 calendar days after publication of this Federal Register notice . . . Separate Rate Status Applications are due to Commerce no later than 30 calendar days from publication of this Federal Register notice.”).

Scope of the Order

The product covered by this order is MSG, whether or not blended or in solution with other products. Specifically, MSG that has been blended or is in solution with other product(s) is included in this scope when the resulting mix contains 15 percent or more of MSG by dry weight. Products with which MSG may be blended include, but are not limited to, salts, sugars, starches, maltodextrins, and various seasonings. Further, MSG is included in this order regardless of physical form (including, but not limited to, in monohydrate or anhydrous form, or as substrates, solutions, dry powders of any particle size, or unfinished forms such as MSG slurry), end-use application, or packaging. MSG in monohydrate form has a molecular formula of C5H8NO4Na − H2O, a Chemical Abstract Service (CAS) registry number of 6106-04-3, and a Unique Ingredient Identifier (UNII) number of W81N5U6R6U. MSG in anhydrous form has a molecular formula of C5H8NO4Na, a CAS registry number of l42-47-2, and a UNII number of C3C196L9FG. Merchandise covered by the scope of this order is currently classified in the Harmonized Tariff Schedule of the United States (HTSUS) at subheading 2922.42.10.00. Merchandise subject to the order may also enter under HTS subheadings 2922.42.50.00, 2103.90.72.00, 2103.90.74.00, 2103.90.78.00, 2103.90.80.00, and 2103.90.90.91. The tariff classifications, CAS registry numbers, and UNII numbers are provided for convenience and customs purposes; however, the written description of the scope is dispositive.⁶

⁶ See Monosodium Glutamate from the People's Republic of China: Second Amended Final Determination of Sales at Less Than Fair Value and Amended Antidumping Order, 80 FR 487 (January 6, 2015).

Methodology

Commerce is conducting this review in accordance with section 751(a)(1)(B) of the Tariff Act of 1930, as amended (the Act), and 19 CFR 351.213.

Preliminary Results of Review

Commerce no longer considers the non-market economy (NME) entity as an exporter conditionally subject to an antidumping duty administrative reviews.⁷ Accordingly, the NME entity will not be under review unless Commerce specifically receives a request for, or self-initiates, a review of the NME entity.⁸ In this administrative review, no party requested a review of the China-wide entity. Moreover, we have not self-initiated a review of the China-wide entity. Because no review of the China-wide entity is being conducted, the China-wide entity's entries are not subject to the review and the rate applicable to the NME entity is not subject to change as a result of this review.

⁷ See Antidumping Proceedings: Announcement of Change in Department Practice for Respondent Selection in Antidumping Duty Proceedings and Conditional Review of the Nonmarket Economy Entity in NME Antidumping Duty Proceedings, 78 FR 65963, 65970 (November 4, 2013).

⁸ In accordance with 19 CFR 351.213(b)(1), parties should specify that they are requesting a review of entries from exporters comprising the entity, and to the extent possible, include the names of such exporters in their request.

None of the 28 companies subject to this review filed an SRA or an SRC. Commerce preliminarily determines that these companies have not demonstrated their eligibility for separate rate status. Commerce also preliminarily determines that the 28 companies subject to review are part of the China-wide entity. The China-wide entity rate is 40.41 percent.⁹

⁹ See Monosodium Glutamate from the People's Republic of China: Second Amended Final Determination of Sales at Less Than Fair Value and Amended Antidumping Duty Order, 80 FR 487 (January 6, 2015).

Public Comment

Interested parties are invited to comment on the preliminary results and may submit case briefs and/or written comments, filed electronically via Enforcement and Compliance's Antidumping and Countervailing Duty Centralized Electronic Service System (ACCESS), within 30 days after the date of publication of these preliminary results of review.¹⁰ ACCESS is available to registered users at http://access.trade.gov and is available to all parties in the Central Records Unit in Room B8024 of the main Commerce building. Rebuttal briefs, limited to issues raised in the case briefs, must be filed within five days after the time limit for filing case briefs.¹¹ Parties who submit case or rebuttal briefs in this proceeding are requested to submit with each argument a statement of the issue, a brief summary of the argument, and a table of authorities.¹²

¹⁰ See 19 CFR 351.309(c)(1)(ii).

¹¹ See 19 CFR 351.309(d)(1) and (2).

¹² See 19 CFR 351.309(c) and (d); see also 19 CFR 351.303 (for general filing requirements).

Interested parties who wish to request a hearing, or to participate if one is requested, must submit a written request to Commerce within 30 days of the date of publication of this notice.¹³ Requests should contain: (1) The party's name, address, and telephone number; (2) The number of participants; and (3) a list of issues to be discussed. Issues raised in the hearing will be limited to those raised in the respective case and rebuttal briefs. If a request for a hearing is made, parties will be notified of the time and date for the hearing to be held at the U.S. Department of Commerce, 1401 Constitution Avenue NW, Washington, DC 20230.¹⁴ Commerce intends to issue the final results of this administrative review, which will include the results of our analysis of all issues raised in the case briefs, within 120 days of publication of these preliminary results in the Federal Register, unless extended, pursuant to section 751(a)(3)(A) of the Act.

¹³ See 19 CFR 351.310(c).

¹⁴ See 19 CFR 351.310(d).

Assessment Rates

Upon issuance of the final results of this review, Commerce will determine, and U.S. Customs and Border Protection (CBP) shall assess, antidumping duties on all appropriate entries of subject merchandise covered by this review.¹⁵ We intend to instruct CBP to liquidate entries containing subject merchandise exported by the companies under review that we determine in the final results to be part of the China-wide entity at the China-wide entity rate of 40.41 percent. Commerce intends to issue assessment instructions to CBP 15 days after the date of publication of this review in the Federal Register.¹⁶

¹⁵ See 19 CFR 351.212(b)(1).

¹⁶ For a full discussion of this practice, see Non-Market Economy Antidumping Proceedings: Assessment of Antidumping Duties, 76 FR 65694 (October 24, 2011).

Cash Deposit Requirements

The following cash deposit requirements will be effective upon publication of the final results of this review for shipments of the subject merchandise from China entered, or withdrawn from warehouse, for consumption on or after the publication date, as provided by sections 751(a)(2)(C) of the Act: (1) For companies that have a separate rate, the cash deposit rate will be that established in the final results of this review (except, if the rate is zero or de minimis, then zero cash deposit will be required); (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be that for the China-wide entity (i.e., 40.41 percent); and (4) for all non-Chinese exporters of subject merchandise which have not received their own rate, the cash deposit rate will be the rate applicable to the Chinese exporter that supplied that non-Chinese exporter. These deposit requirements, when imposed, shall remain in effect until further notice.

Notification to Importers

This notice also serves as a reminder to importers of their responsibility under 19 CFR 315.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) and 777(i) of the Act, and 19 CFR 351.213(h) and 351.221(b)(4).

Dated: August 6, 2019.
Jeffrey I. Kessler,
Assistant Secretary for Enforcement and Compliance.

Appendix

List of Companies Covered by This Review

1. Anhui Fresh Taste International Trade Co., Ltd.

2. Baoji Fufeng Biotechnologies Co., Ltd.

3. Blu Logistics (China) Co., Ltd.

4. Bonroy Group Limited

5. Forehigh Trade and Industry Co., Ltd.

6. Fujian Province Jianyang Wuyi MSG Co., Ltd.

7. Golden Banyan Foodstuffs Industry Co., Ltd.

8. Henan Lotus Flower Gourmet Powder Co.

9. Hong Kong Sungiven International Food Co., Limited

10. Hulunbeier Northeast Fufeng Biotechnologies Co., Ltd.

11. K&S Industry Limited

12. King Cheong Hong International

13. Langfang Meihua Bio-Technology Co., Ltd.

14. Liangshan Linghua Biotechnology Co., Ltd.

15. Lotus Health Industry Holding Group

16. Meihua Group International Trading (Hong Kong) Limited,

17. Meihua Holdings Group Co., Ltd., Bazhou Branch

18. Neimenggu Fufeng Biotechnologies Co., Ltd.

19. Pudong Prime Int'l Logistics, Inc.

20. Qinhuangdao Xingtai Trade Co., Ltd.

21. S.D. Linghua M.S.G. Incorporated Co.

22. Shandong Linghua Monosodium Glutamate Incorporated Company

23. Shandong Qilu Biotechnology Group

24. Shanghai Totole Food Ltd.

25. Shijiazhuang Standard Imp & Exp Co., Ltd.

26. Sunrise (HK) International Enterprise Limited

27. Tongliao Meihua Biological Sci-Tech Co., Ltd.

28. Zhejiang Medicines & Health

[FR Doc. 2019-18829 Filed 8-29-19; 8:45 am]

BILLING CODE 3510-DS-P